DEPARTMENT OF DEFENSE

Office of the Secretary

[Docket ID: DoD-2013-OS-0219]

Privacy Act of 1974; System of Records

AGENCY: Defense Finance and Accounting Service, DoD.

ACTION: Notice to delete a system of records.

SUMMARY: The Defense Finance and Accounting Service is deleting a system of records notices in its existing inventory of record systems subject to the Privacy Act of 1974, as amended. The system of records being deleted is T7108, Base Accounts Receivable System (BARS).

DATES: This proposed action will be effective on December 20, 2013 unless comments are received which result in a contrary determination. Comments will be accepted on or before December 19, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, (317) 212-4591.

SUPPLEMENTARY INFORMATION: The Defense Finance and Accounting Service systems of records notices subject to the Privacy Act of 1974 (5 U.S.C. 552a), as amended, have been published in the Federal Register and are available from the address in FOR FURTHER INFORMATION CONTACT. The proposed deletion is not within the purview of subsection (r) of the Privacy Act of 1974 (5 U.S.C. 552a), as amended, which requires the submission of a new or altered system report.

Dated: November 14, 2013.
Aaron Siegel,
Alternate OSD Federal Register Liaison Officer, Department of Defense.

Deletion:

T7108

System name:

Base Accounts Receivable System (BARS) (June 16, 2009, 74 FR 28478).

Reason:

System was decommissioned June 13, 2011. All data was archived into an offline database for two years then destroyed, therefore; T7108, Base Accounts Receivable System (BARS) can be deleted.

[FR Doc. 2013-27647 Filed 11-18-13; 8:45 am]

BILLING CODE 5001-06-P